DEPARTMENT OF HOMELAND SECURITY

Coast Guard

[Docket No. USCG-2019-0131]

Port Access Route Study: The Areas Offshore of Massachusetts and Rhode Island

AGENCY: Coast Guard, DHS.

ACTION: Notice of availability.

SUMMARY: The United States Coast Guard (USCG) announces the completion of The Areas Offshore of Massachusetts and Rhode Island Port Access Route Study. The study focused on the seven adjacent leased areas of the outer continental shelf south of Martha's Vineyard, Massachusetts, and east of Rhode Island that together constitute the Massachusetts/Rhode Island Wind Energy Area (MA/RI WEA). The study was conducted to (1) determine what, if any, navigational safety concerns exist with vessel transits in the study area; (2) determine whether to recommend changes to enhance navigational safety by examining existing shipping routes and waterway uses as any or all of the lease areas within the MA/RI WEA are partially or fully developed as wind farms; and (3) to evaluate the need for establishing vessel routing measures. This notice summarizes the study's recommendations.

FOR FURTHER INFORMATION CONTACT: If you have questions on this notice, contact Mr. Craig Lapiejko, Waterways Management at First Coast Guard District, telephone (617) 223-8351, email craig.d.lapiejko@uscg.mil.

I. Table of Abbreviations

AIS Automatic Identification System

BOEM Bureau of Ocean Energy Management

CFR Code of Federal Regulations

DHS Department of Homeland Security

FR Federal Register

MARIPARS Massachusetts and Rhode Island Port Access Route Study

MA/RI WEA Massachusetts/Rhode Island Wind Energy Area

NEPA National Environmental Policy Act

NM Nautical Mile

NMFS National Marine Fisheries Service

OCS Outer Continental Shelf

PARS Port Access Route Study

PWSA Ports and Waterways Safety Act

TSS Traffic Separation Scheme

U.S. United States

U.S.C. United States Code

USCG United States Coast Guard

WEA Wind Energy Area

WTG Wind Turbine Generator

II. Background and Purpose

When did the USCG conduct this Port Access Route Study (PARS)?

We conducted this PARS following our announcement of the PARS in a notice published in the Federal Register on March 26, 2019 (84 FR 11314).

There was a 60-day public comment period, and USCG convened three public meetings (in Massachusetts, Rhode Island, and New York) to receive public input. The USCG received 30 comments in response to our Federal Register Notice, public meetings and other outreach efforts which included announcement via a Marine Safety Information Bulletin (MSIB), publication in the Local Notice to Mariners (LNM), and Twitter posts.

On January 29, 2020, we published a Notice of availability of draft report; request for comments entitled “Port Access Route Study (PARS): The Areas Offshore of Massachusetts and Rhode Island” in the Federal Register (85 FR 5222) announcing the availability of the draft version of the study report.

During the 45-day public comment period, the USCG received 48 comments in response to our Federal Register Notice and other outreach which included announcement via a Marine Safety Information Bulletin (MSIB), publication in the Local Notice to Mariners (LNM), and Twitter posts. All comments and supporting documents are available in a public docket and can be viewed at http://www.regulations.gov. In the “Search” box insert “USCG-2019-0131” and click “Search.” Click the “Open Docket Folder” in the “Actions” column.

Comments have been summarized in section III.

What is the study area?

The study area is described as an area bounded by a line connecting the following geographic positions:

• 41°20′ N, 070°00′ W

• 40°35′ N, 070°00′ W

• 40°35′ N, 071°15′ W

• 41°20′ N, 071°15′ W

Why did the USCG conduct this PARS?

The topic of safe navigation routes to facilitate vessel transits through the MA/RI WEA has been considered since at least May of 2018, when the USCG first invited developers to discuss the issue. At various subsequent meetings throughout southeastern New England, which included participation by the USCG, other federal, state, and local agencies, fishing industry representatives, and myriad stakeholders, various vessel transit layout plans were proposed. After a consensus among all stakeholders could not be reached, the USCG concluded that a PARS should be conducted to determine the best possible alternative for potentially seven distinct offshore renewable energy installations (“wind farms”) which could be constructed, each with its own number, size, type of wind turbines, and distinct turbine layout.

PARS are conducted anytime the USCG considers a need to recommend routing changes, within the territorial seas, for any port. The Ports and Waterways Safety Act (PWSA) requires the USCG to conduct a study before establishing new or adjusting existing fairways or TSS. U.S. waterways support multiple uses, such as commercial shipping, tug and barge operations, commercial and recreational fishing, research vessels, offshore support vessels, military vessels, and aquaculture apparatus. A PARS is a study, not a rulemaking. The USCG does not plan a related rulemaking provided that the MA/RI WEA turbine layout is developed along a standard and uniform grid pattern.

How did the USCG conduct this PARS?

The PARS was conducted in alignment with guidance outlined in USCG Commandant Instruction 16003.2B, Marine Planning to Operate and Maintain the Marine Transportation System (MTS) and Implement National Policy which is available in the docket or see https://media.defense.gov/2017/Mar/15/2001716995/-1/-1/0/CI_16003_2A.PDF.

What is the goal of the study?

The goal of the study is to enhance navigational safety in the study area by examining existing shipping routes and waterway uses. To accomplish this goal, the USCG has undertaken measures to (1) determine what, if any, navigational safety concerns exist with vessel transits in the study area; (2) determine whether to recommend changes to enhance navigational safety by examining existing shipping routes and waterway uses as any or all of the lease areas within the MA/RI WEA are partially or fully developed as wind farms; and (3) evaluate the need for establishing vessel routing measures.

III. Discussion of Comments

A total of 48 comments on the draft version of the final report were submitted by representatives of the maritime community, wind energy developers, non-governmental organizations, federal and state governmental agencies, and private citizens. Twenty three of the comments are considered to be in support of the recommendations, while sixteen of the comments were considered to be opposed to the recommendations and nine of the comments were considered to be neutral.

Comments covered many topics, but a number of commenters with specific concerns focused their comments on navigation corridors, radar interference with a request for additional studies, and cost benefit analysis or economic analysis. The substance of those comments is covered below. Other comments received are more appropriate for the offshore wind NEPA process as USCG provides BOEM with a navigation safety recommendation for each project. Comments not related to the subject of the draft report are not covered in this notice.

Navigation Corridors

Various comments were received concerning navigation corridors. Although the majority of commenters agreed with our recommendation for a standard and uniform grid pattern with 1 NM spacing between WTGs across the entire WEA, others disagreed and supported larger 2 NM to 4 NM corridors to serve as clear lanes for vessels to transit within the WEA. Although these larger navigation corridors may appear to provide more area for navigation, they actually provide far less area than the numerous corridors that result from the recommended array and spacing. Additionally, the project developers have made clear that larger corridors, even though fewer in number, would result in reduced WTG spacing for the WEA. Because the reduced turbine spacing makes navigation more challenging, most traffic would then be funneled into the corridors thereby increasing traffic density and risks for vessel interaction. Furthermore, the recommended standard and uniform grid pattern provide sufficient space for certain vessels that fish in the WEA to continue fishing after the wind farms are constructed. If the WEA provided several larger corridors as some commenters proposed, the reduced turbine spacing would largely preclude fishing in the WEA, an area of almost 1400 square miles.

For these reasons, the USCG has determined that if the MA/RI WEA turbine layout is developed along a standard and uniform grid pattern, formal or informal vessel routing measures would not be required as such a grid pattern will result in the functional equivalent of numerous navigation corridors that can safety accommodate both transits through and fishing within the WEA. While these navigation corridors would be smaller than those suggested by some commenters, the USCG believes they should be sufficient to maintain navigational safety and provide vessels with multiple straight-line options to transit safely throughout the MA/RI WEA.

Radar Interference and Additional Studies

Some commenters expressed their concerns about possible radar interference while transiting within the WEA and said the Coast Guard should conduct additional studies before making final recommendations for the MARIPARS. There are, however, no wind farms in U.S. waters with a sufficient number and arrangement of turbines to conduct such a study. As the Block Island wind farm is a single line of five turbines spaced approximately 0.5 NM apart, it does not provide the turbine array needed to conduct such a study. The USCG has reviewed all available studies on radar interference and found that although these studies show that structures may have some effect upon radar, as discussed in the MARIPARS report, they do not render radar inoperable and do not inform planning decisions about turbine arrangement or spacing.

Coast Guard vessels and aircraft that will operate in the WEA also rely upon radar for safe navigation, collision avoidance and maritime situational awareness. Although the Coast Guard is confident that by following principles of prudent seamanship and utilizing all available bridge resources, including AIS, vessels can safely navigate through the WEA in most weather conditions, it will continue to evaluate operational effectiveness within wind farms as they are being developed. Additionally, the USCG will remain a participating member of the Wind Turbine Radar Interference Working Group which will continue to evaluate WTG impacts to marine radar and will recommend mitigation strategies through the BOEM leasing process as necessary.

Cost Benefit Analysis or Economic Analysis

The USCG received comments requesting we conduct a cost benefit analysis or economic analysis. The purpose of the MARIPARS was to determine what routing measures, if any, may be necessary for navigation safety should any or all of the lease areas within the MA/RI WEA become partially or fully developed as wind farms. In conducting the MARIPARS, the USCG considered traditional uses of the waterway and related economic impacts, as well as the economic impacts related to its recommendations on routing measures on wind farm development in the MA/RI WEA. While these economic impacts were addressed in some areas of the MARIPARS, the purpose of such limited examination was twofold: (1) To address how economic issues might impact behaviors with regards to safe navigation and (2) to find a balanced solution for navigation concerns that addresses both the proposed uses of the waterway and the traditional uses of the waterway.

As MARIPARS is merely a study for the purpose of making recommendations, and not a regulatory action through which the Coast Guard is imposing a cost or other burden upon the public, the Coast Guard cannot complete such a study at this time. If, however, the Coast Guard were to later determine that it should take regulatory measures as a result of this study, it would then evaluate the economic aspects of the proposed regulatory activity as part of the rulemaking process.

IV. Study Recommendations

The recommendations of this PARS are primarily based on the comments received to the docket, public outreach, and consultation with other government agencies. The MARIPARS evaluated several concerns that resulted in the following recommendations:

A. That the MA/RI WEA's turbine layout be developed along a standard and uniform grid pattern with at least three lines of orientation and standard spacing to accommodate vessel transits, traditional fishing operations, and search and rescue operations, throughout the MA/RI WEA. The adoption of a standard and uniform grid pattern through BOEM's approval process will likely eliminate the need for the USCG to pursue formal or informal routing measures within the MA/RI WEA at this time.

1. Lanes for vessel transit should be oriented in a northwest to southeast direction, 0.6 NM to 0.8 NM wide. This width will allow vessels the ability to maneuver in accordance with the COLREGS while transiting through the MA/RI WEA.

2. Lanes for commercial fishing vessels actively engaged in fishing should be oriented in an east to west direction, 1 NM wide.

3. Lanes for USCG search and rescue operations should be oriented in a north to south and east to west direction, 1 NM wide. This will ensure two lines of orientation for USCG helicopters to conduct search and rescue operations.

In the event that subsequent MA/RI WEA project proposals diverge from a standard and uniform grid pattern approved in previous projects, the USCG will revisit the need for informal and formal measures to preserve safe, efficient navigation and SAR operations.

B. That mariners transiting in or near the MA/RI WEA should use extra caution, ensure proper watch and assess all risk factors. Offshore renewable energy installations present new challenges to safe navigation, but proper voyage planning and access to relevant safety information should ensure that safety is not compromised.

In general, mariners transiting through this WEA should make a careful assessment of all factors associated with their voyage. These factors at a minimum should include;

(1) The operator's experience and condition with regard to fitness and rest.

(2) The vessels characteristics, which should include the size, maneuverability, and sea keeping ability. The overall reliable and operational material condition of propulsion, steering, and navigational equipment.

(3) Weather conditions—both current and predicted including sea state and visibility.

(4) Voyage planning to include up-to-date information regarding the positions of completed wind towers or wind towers under construction and their associated construction vessels. A great deal of consideration should also be given to whether the transit will be conducted during day or night.

V. Summary of Changes

No substantive changes were made to the report as a result of the comment period. Only minor editorial changes were made to the report.

VI. Future Actions

The USCG will continue to serve as a NEPA cooperating agency to BOEM's environmental review of each proposed project. In that role, the USCG will evaluate the navigational safety risks of each proposal on a case-by-case basis.

The First Coast Guard District actively monitors all waterways subject to its jurisdiction to ensure navigation safety and will continue to monitor the areas offshore of Massachusetts and Rhode Island for evolving conditions, which may require additional studies to ensure navigational safety and minimize impacts to USCG operations.

The final report is available for viewing and download from the Federal Register docket at http://www.regulations.gov or the USCG Navigation Center website at https://www.navcen.uscg.gov/?pageName=PARSReports.

This notice is published under the authority of 46 U.S.C. 70003, 70004 and 5 U.S.C. 552(a).

Dated: May 14, 2020.
A.J. Tiongson,
Rear Admiral, U.S. Coast Guard, Commander, First Coast Guard District.

[FR Doc. 2020-11262 Filed 5-26-20; 8:45 am]

BILLING CODE 9110-04-P